DEPARTMENT OF HEALTH AND HUMAN SERVICES

Food and Drug Administration

21 CFR Part 73

[Docket Nos. FDA-2011-C-0344 and FDA-2011-C-0463]

CooperVision, Inc.; Filing of Color Additive Petitions

Correction

In proposed rule document C1-2011-16089 appearing on page 49707 in the issue of Thursday, August 11, 2011, make the following correction:

On page 49707, in the first column, in the nineteenth line, “methacryloxyethyl)phenlyamino]” should read “methacryloxyethyl)phenylamino]”.

[FR Doc. C2-2011-16089 Filed 9-6-11; 8:45 am]

BILLING CODE 1505-01-D